DEPARTMENT OF STATE

[Public Notice: 10326]

In the Matter of the Designation of ISIS-Philippines (and Other Aliases) as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to ISIS-Philippines, also known as ISIS in the Philippines, also known as ISIL Philippines, also known as ISIL in the Philippines, also known as IS Philippines, also known as ISP, also known as Islamic State in the Philippines, also known as Islamic State in Iraq and Syria in South-east Asia, also known as Dawlatul Islamiyah Waliyatul Masrik, DIWM, also known as Dawlatul Islamiyyah Waliyatul Mashriq, also known as IS East Asia Division, also known as ISIS branch in the Philippines, also known as ISIS' “Philippine province.”

Therefore, I hereby designate the aforementioned organization and its aliases as a foreign terrorist organization pursuant to section 219 of the INA.

This determination shall be published in the Federal Register.

Dated: December 27, 2017.
John J. Sullivan,
Deputy Secretary of State.

[FR Doc. 2018-03997 Filed 2-27-18; 8:45 am]

BILLING CODE 4710-AD-P